DEPARTMENT OF COMMERCE

National Oceanic and Atmospheric Administration

RIN 0648-XA748

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Coral Advisory Panel (AP) in North Charleston, SC.

DATES: The meeting will take place October 25-26, 2011. See SUPPLEMENTARY INFORMATION for specific dates and times.

ADDRESSES: The meeting will be held at the Hilton Garden Inn, 5265 International Blvd., North Charleston, SC 29418; telephone: (800) 445-8667; fax: (843) 308-9331.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; e-mail: kim.iverson@safmc.net.

SUPPLEMENTARY INFORMATION: Members of the Coral AP will meet from 8:30 a.m. until 5 p.m. on October 25, 2011 and from 8:30 a.m. until 12 noon on October 26, 2011.

Issues to be addressed at the meeting include: An overview of coral research and activity in the South Atlantic region; a discussion of measures to be included in the Comprehensive Ecosystem-Based Amendment 3; an overview of Spiny Lobster Amendment 11, including proposed closures in the spiny lobster fishery with the intent of protecting elkhorn and staghorn corals; an overview of Marine and Estuarine Goal Setting Criteria for South Florida (MARES) Program; and a review of Oculina research activities. Updates will be given on the following: The NOAA Fisheries Habitat Conservation Division; the Council's Invasive Species Policy and the Coral Reef Conservation Program Grant Projects; and the U.S. Coral Reef Task Force Meeting.

Special Accommodations

These meetings are physically accessible to people with disabilities. Requests for auxiliary aids should be directed to the Council office (see ADDRESSES) 3 days prior to the meeting.

Note: The times and sequence specified in this agenda are subject to change.

Dated: October 3, 2011.
Tracey L. Thompson,
Acting Director, Office of Sustainable Fisheries, National Marine Fisheries Service.

[FR Doc. 2011-25841 Filed 10-5-11; 8:45 am]

BILLING CODE 3510-22-P